DEPARTMENT OF TRANSPORTATION

Federal Highway Administration

23 CFR Part 180

Office of the Secretary

49 CFR Part 80

Federal Railroad Administration

49 CFR Part 261

Federal Transit Administration

49 CFR Part 640

Maritime Administration

49 CFR Part 1700

[Docket No. DOT-OST-2009-0004]

RIN 2105-AD70

Credit Assistance for Surface Transportation Projects

AGENCIES: Federal Highway Administration (FHWA), Federal Railroad Administration (FRA), Federal Transit Administration (FTA), Maritime Administration (MARAD), Office of the Secretary of Transportation (OST), Department of Transportation (DOT).

ACTION: Withdrawal of notice of proposed rulemaking (NPRM) and request for comments.

SUMMARY: This notice withdraws DOT's proposed changes to its regulations implementing the Transportation Infrastructure Finance and Innovation Act (TIFIA). The NPRM is being withdrawn in order to allow the Obama Administration to review the program and decide what, if any changes, it may wish to propose.

DATES: February 25, 2009.

FOR FURTHER INFORMATION CONTACT: Mr. Mark Sullivan, TIFIA Joint Program Office (202) 366-5785, or Mr. Steven Rochlis, Office of the Chief Counsel (202) 366-1395, Federal Highway Administration, 1200 New Jersey Avenue, SE., Washington, DC 20590.

SUPPLEMENTARY INFORMATION: On Wednesday, January 21, 2009, DOT published a NPRM (74 FR 3487) concerning the Transportation Infrastructure Finance and Innovation Act (TIFIA) to implement recent statutory changes and to incorporate certain other changes to the rule. In addition, the NPRM sought comment on policy issues with potentially significant impact on the TIFIA project selection process. This withdrawal will allow the Obama Administration to review the program and decide what, if any changes, it may wish to propose. We believe that the public will benefit from withdrawal of the proposal early in the comment period before comments have been drafted and filed pending review of the program by the new administration.

Issued in Washington, DC on February 16, 2009.
Ray LaHood,
Secretary of Transportation.

[FR Doc. E9-3975 Filed 2-24-09; 8:45 am]

BILLING CODE 4910-9X-P